ENVIRONMENTAL PROTECTION AGENCY

[OPPT-2002-0048; FRL-7492-4]

Agency Information Collection Activities; Submission of EPA ICR No. 0795.11 (OMB No. 2070-0030) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Notification of Chemical Exports—TSCA Section 12(b) (EPA ICR No. 0795.11; OMB Control No. 2070-0030). The ICR, which is abstracted below, describes the nature of the information collection and its estimated cost and burden. On August 19, 2002 (67 FR 53792), EPA sought comments on this ICR pursuant to 5 CFR 1320.8(d). EPA received comments from Kokopelli Chemists, Inc.; the Proctor & Gamble Co.; the Color Pigments Manufacturers Association, Inc.; and the American Chemistry Council, which are addressed as an attachment to the ICR.

DATES: Additional comments may be submitted on or before June 2, 2003.

ADDRESSES: Submit your comments, identified by docket ID number OPPT-2002-0048, to both (1) EPA online at http://www.epa.gov/edocket (our preferred method) or by mail to: EPA Docket Center, Environmental Protection Agency, Mailcode: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Director, Environmental Assistance Division, Office of Pollution Prevention and Toxics, Environmental Protection Agency, Mailcode: 7408, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12.

EPA has established a public docket for this ICR under Docket ID No. OPPT-2002-0048, which is available for public viewing at the OPPT Docket in the EPA Docket Center, EPA West Building Basement Room B102, 1301 Constitution Ave., NW., Washington, DC. The Center is open from 8 a.m. to 4:30 p.m., Monday through Friday, excluding legal holidays. The telephone number for the Reading Room is (202) 566-1744.

An electronic version of the public docket is available through EPA's electronic public docket and comment system, EPA Dockets (EDOCKET) at http://www.epa.gov/edocket. Use EDOCKET to submit or view public comments, access the index listing of the contents of the public docket, and to access those documents in the public docket that are available electronically. Once in the system, select “search,” then key in the docket ID number identified above. Any comments related to this ICR should be submitted to EPA and OMB within 30 days of this notice.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET.

Title: Notification of Chemical Exports—TSCA Section 12(b) (EPA ICR No. 0795.11; OMB Control No. 2070-0030). This is a request to renew an approved collection that is scheduled to expire on April 30, 2003. Under the OMB regulations, the Agency may continue to conduct or sponsor the collection of information while this submission is pending at OMB.

Abstract: Section 12(b)(2) of the Toxic Substances Control Act (TSCA) requires that any person who exports or intends to export to a foreign country a chemical substance or mixture that is regulated under TSCA sections 4, 5, 6 and/or 7 submit to EPA notification of such export or intent to export. Upon receipt of notification, EPA will advise the government of the importing country of the U.S. regulatory action with respect to that substance. EPA uses the information obtained from the submitter via this collection to advise the government of the importing country.

Responses to the collection of information are mandatory (see 40 CFR part 707). Respondents may claim all or part of a document confidential. EPA will disclose information that is covered by a claim of confidentiality only to the extent permitted by, and in accordance with, the procedures in TSCA section 14 and 40 CFR part 2.

An agency may not conduct or sponsor, and a person is not required to respond to, a collection of information unless it displays a currently valid OMB control number, unless that collection is specifically mandated by statute. The OMB control numbers for EPA's regulations in Title 40 are listed in 40 CFR part 9, and are identified on the form and/or instrument, if applicable.

Burden Statement: The annual public reporting burden for this collection of information is estimated to be about one hour per response. Under the PRA, burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Companies that export from the United States to foreign countries, or that engage in wholesale sales of, chemical substances or mixtures.

Frequency of Collection: On occasion, either once or annually.

Estimated No. of Respondents: 500.

Estimated Total Annual Burden on Respondents: 7,450 hours.

Estimated Total Annual Costs: $452,055.

Changes in Burden Estimates: There is a decrease of 2,950 hours (from 10,400 hours to 7,450 hours) in the total estimated respondent burden compared with that identified in the information collection request most recently approved by OMB. This change reflects EPA's experience over the past three years, in which there has been an increase in the number of reporting firms but a decrease in the number of notices per firm than anticipated at the time of the last approval of this information collection. The net result is a decrease in burden hours (adjustment).

Dated: April 23, 2003.
Richard T. Westlund,
Acting Director, Collection Strategies Division.

[FR Doc. 03-10895 Filed 5-1-03; 8:45 am]

BILLING CODE 6560-50-P